DEPARTMENT OF THE TREASURY

Office of Foreign Assets Control

Sanctions Actions Pursuant to Executive Orders 13582, 13572, 13573, and 13382

AGENCY: Office of Foreign Assets Control, Treasury.

ACTION: Notice.

SUMMARY: The U.S. Department of the Treasury's Office of Foreign Assets Control (OFAC) is publishing the names of 12 persons whose property and interests in property are blocked pursuant to Executive Order (E.O.) 13582, 3 persons whose property and interests in property are blocked pursuant to E.O. 13572, 2 persons whose property and interests in property are blocked pursuant to E.O. 13573, and 3 persons whose property and interests in property are blocked pursuant to E.O. 13382.

DATES: OFAC's actions described in this notice were effective on July 21, 2016, as further specified below.

FOR FURTHER INFORMATION CONTACT: Associate Director for Global Targeting, tel.: 202/622-2420, Associate Director for Sanctions Policy & Implementation, tel.: 202/622-2480, Office of Foreign Assets Control, or Chief Counsel (Foreign Assets Control), tel.: 202/622-2410, Office of the General Counsel, Department of the Treasury (not toll free numbers).

SUPPLEMENTARY INFORMATION:

Electronic Availability

The Specially Designated Nationals and Blocked Persons List and additional information concerning OFAC sanctions programs are available on OFAC's Web site (www.treas.gov/ofac).

Notice of OFAC Actions

On July 21, 2016, OFAC blocked the property and interests in property of the following 12 persons pursuant to E.O. 13582, “Blocking Property of the Government of Syria and Prohibiting Certain Transactions with Respect to Syria”:

Individuals

1. HABIB, Salah (a.k.a. HABIB, Saleh; a.k.a. HABIB, Salih), Villa 43A, al Syniar Street, Jumeirah 3, P.O. Box 127074, Dubai, United Arab Emirates; DOB 05 Jul 1962; POB Ain el-Karm, Syria; citizen France; alt. citizen Syria; Passport 13AF69606 (France) expires 06 Feb 2023; Position: Owner; Alt. Position: General Manager; Alt. Position: Chief Executive Officer (individual) [SYRIA] (Linked To: YONA STAR INTERNATIONAL).

2. LANG, Jonha (a.k.a. GANGSHAN, Lang), Yuhong District, Shenyang, China; DOB 15 Dec 1978; citizen China; Citizen's Card Number 211226197812154256 (China); Position: T-Rubber Representative; Alt. Position: T-Rubber Sales Manager (individual) [SYRIA] (Linked To: T-RUBBER CO., LTD).

3. ARBASH, Yusuf (a.k.a. ARBASH, Yusef Mikhail); DOB Oct 1960; nationality Russia; Position: Head of Hesco Engineering and Construction Ltd's Office in Russia (individual) [SYRIA] (Linked To: HESCO ENGINEERING & CONSTRUCTION CO).

4. TIZINI, Nabil (a.k.a. TAZINI, Nabil); DOB 02 Jun 1968; nationality Syria; Passport N009894266; UAE Identification 784-1968-9720837-5; Position: Financial Manager at Hesco Engineering and Construction Ltd in Moscow (individual) [SYRIA] (Linked To: ARBASH, Yusuf; Linked To: HESCO ENGINEERING & CONSTRUCTION CO).

5. ALI, Aous (a.k.a. AL-ALI, Aous; a.k.a. ALI, Aus; a.k.a. ALI, Aws); DOB 15 Feb 1977; POB Damascus, Syria; citizen Syria (individual) [SYRIA] (Linked To: MAKHLUF, Rami).

6. KHOURI, Atiya (a.k.a. AL-KHURI, Attiyah; a.k.a. AL-KHURY, Atiyah; a.k.a. KHOURY, Attiyah; a.k.a. KHURI, Atiyah; a.k.a. KHURI, Attiyah; a.k.a. KHURY, Attiyah); DOB 25 Jul 1971; POB Homs, Syria; citizen Syria (individual) [SYRIA] (Linked To: MAKHLUF, Rami; Linked To: SYRIATEL; Linked To: MAYALEH, Adib).

7. KHURI, Imad Mtanyus; DOB 03 Oct 1964; nationality Syria; citizen Russia (individual) [SYRIA] (Linked To: KHURI, Mudalal).

Entities

1. T-RUBBER CO., LTD (a.k.a. T-RUBBER COMPANY; a.k.a. T-RUBBER LTD; a.k.a. “T-RUBBER”), Rubber Industrial Zone, Shaling Town, Yuhong District, Shenyang 110144, China; No. 5-1, Shenxi Sandong Road, Economic Technology Development Area, Shenyang, Liaoning 110002, China; Web site http://www.t-rubber.com/ [SYRIA].

2. YONA STAR INTERNATIONAL (a.k.a. UNISTAR COMPANY; a.k.a. YONA HOLDING; a.k.a. YONA STAR; a.k.a. YONA STAR COMPANY; a.k.a. YONA STAR SHIPPING; a.k.a. YONA STAR TRADING INTERNATIONAL CO. LTD.), Damascus Airport Free Zone, Damascus, Syria; Al Maktoum Street, Building MM Office # 7, Deira, Dubai, United Arab Emirates; Web site http://www.yonastar.com [SYRIA].

3. MONETA TRANSFER AND EXCHANGE (a.k.a. MONETA EXCHANGE COMPANY; a.k.a. MONETA MONEY EXCHANGE; a.k.a. MONETA MONEY TRANSFER & EXCHANGE; a.k.a. MONETA TRANSFER & EXCHANGE), Damascus, Syria [SYRIA] (Linked To: KHOURI, Atiya; Linked To: MAKHLUF, Rami; Linked To: SYRIATEL; Linked To: MAYALEH, Adib).

4. E.K.-ULTRA FINANCIAL GROUP LIMITED, Anexartisias, 118, Floor 1, Flat 101, Limassol 3040, Cyprus; Registration ID HE 242159 [SYRIA] (Linked To: NICOLAOU, Nicos).

5. ARGUS CONSTRUCTION, P.O. Box 556, Main Street, Charlestown, Saint Kitts and Nevis [SYRIA] (Linked To: ABDULKARIM, Wael).

On July 21, 2016, OFAC additionally blocked the property and interests in property of the following 3 persons pursuant to E.O. 13572, “Blocking Property of Certain Persons With Respect to Human Rights Abuses in Syria.” These persons also are named above as blocked pursuant to E.O. 13582:

Individuals

1. ALI, Aous (a.k.a. AL-ALI, Aous; a.k.a. ALI, Aus; a.k.a. ALI, Aws); DOB 15 Feb 1977; POB Damascus, Syria; citizen Syria (individual) [SYRIA] (Linked To: MAKHLUF, Rami).

2. KHOURI, Atiya (a.k.a. AL-KHURI, Attiyah; a.k.a. AL-KHURY, Atiyah; a.k.a. KHOURY, Attiyah; a.k.a. KHURI, Atiyah; a.k.a. KHURI, Attiyah; a.k.a. KHURY, Attiyah); DOB 25 Jul 1971; POB Homs, Syria; citizen Syria (individual) [SYRIA] (Linked To: MAKHLUF, Rami; Linked To: SYRIATEL; Linked To: MAYALEH, Adib).

Entity

1. MONETA TRANSFER AND EXCHANGE (a.k.a. MONETA EXCHANGE COMPANY; a.k.a. MONETA MONEY EXCHANGE; a.k.a. MONETA MONEY TRANSFER & EXCHANGE; a.k.a. MONETA TRANSFER & EXCHANGE), Damascus, Syria [SYRIA] (Linked To: KHOURI, Atiya; Linked To: MAKHLUF, Rami; Linked To: SYRIATEL; Linked To: MAYALEH, Adib).

On July 21, 2016, OFAC additionally blocked the property and interests in property of the following 2 persons pursuant to E.O. 13573, “Blocking Property of Senior Officials of the Government of Syria.” These persons also are named above as blocked pursuant to E.O. 13582 and E.O. 13572:

Individual

1. KHOURI, Atiya (a.k.a. AL-KHURI, Attiyah; a.k.a. AL-KHURY, Atiyah; a.k.a. KHOURY, Attiyah; a.k.a. KHURI, Atiyah; a.k.a. KHURI, Attiyah; a.k.a. KHURY, Attiyah); DOB 25 Jul 1971; POB Homs, Syria; citizen Syria (individual) [SYRIA] (Linked To: MAKHLUF, Rami; Linked To: SYRIATEL; Linked To: MAYALEH, Adib).

Entity

1. MONETA TRANSFER AND EXCHANGE (a.k.a. MONETA EXCHANGE COMPANY; a.k.a. MONETA MONEY EXCHANGE; a.k.a. MONETA MONEY TRANSFER & EXCHANGE; a.k.a. MONETA TRANSFER & EXCHANGE), Damascus, Syria [SYRIA] (Linked To: KHOURI, Atiya; Linked To: MAKHLUF, Rami; Linked To: SYRIATEL; Linked To: MAYALEH, Adib).

On July 21, 2016, OFAC blocked the property and interests in property of the following 3 persons pursuant to E.O. 13382, “Blocking Property of Weapons of Mass Destruction Proliferators and Their Supporters”:

Individual

1. MAHROUS, Iyad Mohammad Esam (a.k.a. MAHROUS, Iyad; a.k.a. MAHRUS, Iyad); DOB 12 May 1971; nationality Syria; Passport N006478882 (individual) [NPWMD] (Linked To: SCIENTIFIC STUDIES AND RESEARCH CENTER).

Entities

1. MAHROUS GROUP (a.k.a. AL MAHRUS GROUP TRADING COMPANY; a.k.a. MAHROUS TRADING ESTABLISHMENT; a.k.a. MAHROUS TRADING INSTITUTE; a.k.a. MAHRUS GROUP; a.k.a. MAHRUS TRADING ESTABLISHMENT), Rawda Street, Damascus, Syria; Al Rawdah, Damascus, Syria [NPWMD] (Linked To: SCIENTIFIC STUDIES AND RESEARCH CENTER).

2. MAHROUS TRADING FZE (a.k.a. MAHRUS TRADING FZE), P.O. Box 16111, Ras Al Khaimah, United Arab Emirates [NPWMD] (Linked To: SCIENTIFIC STUDIES AND RESEARCH CENTER).

Dated: July 21, 2016.
John E. Smith,
Acting Director, Office of Foreign Assets Control.

[FR Doc. 2016-17637 Filed 7-25-16; 8:45 am]

BILLING CODE 4810-AL-P